ENVIRONMENTAL PROTECTION AGENCY

40 CFR Part 52

[KY-143-200315; FRL-7469-1]

Approval and Promulgation of Implementation Plans; Kentucky: Approval of Revisions to Maintenance Plan for Northern Kentucky

AGENCY: Environmental Protection Agency (EPA).

ACTION: Proposed rule.

SUMMARY: The EPA is proposing to approve a revision to the state implementation plan (SIP) of the Commonwealth of Kentucky to revise the motor vehicle emissions budgets (MVEBs) for the Northern Kentucky maintenance area for the year 2010. The Northern Kentucky maintenance area, a subset of the Cincinnati-Hamilton maintenance area, includes the three Kentucky counties of Boone, Campbell and Kenton. The revision to the MVEBs is allowable because of an available safety margin for volatile organic compounds (VOCs) and nitrogen oxides (NOX) for the Northern Kentucky portion of the maintenance area. The Commonwealth's submittal also requests to clearly identify that the Ohio portion and the Kentucky portion of the Cincinnati-Hamilton maintenance area will have subarea MVEBs for the purposes of implementing transportation conformity. Ohio will make a similar request for subarea MVEBs for this area in an upcoming revision to the Cincinnati-Hamilton county maintenance plan. Kentucky has requested that EPA parallel process this revision because the revision is not yet state-effective.

DATES: Written comments must be received on or before April 18, 2003.

ADDRESSES: All comments should be addressed to: Michele Notarianni; Regulatory Development Section; Air Planning Branch; Air, Pesticides and Toxics Management Division; U.S. Environmental Protection Agency, Region 4; 61 Forsyth Street, SW., Atlanta, Georgia 30303-8960. (404/562-9031 (phone) or notarianni.michele@epa.gov (e-mail))

Copies of documents relative to this action are available at the following addresses for inspection during normal business hours:

Environmental Protection Agency, Region 4, Air Planning Branch, 61 Forsyth Street, SW., Atlanta, Georgia 30303-8960. (Michele Notarianni, 404/562-9031, notarianni.michele@epa.gov)

Commonwealth of Kentucky, Division for Air Quality, 803 Schenkel Lane, Frankfort, Kentucky 40601-1403. (502/573-3382)

Persons wanting to examine these documents should make an appointment at least 24 hours before the visiting day and reference file KY143. (Telephone number: 404/562-9031)

FOR FURTHER INFORMATION CONTACT: Michele Notarianni, Regulatory Development Section, Air Planning Branch, Air, Pesticides and Toxics Management Division, Region 4, U.S. Environmental Protection Agency, 61 Forsyth Street, SW., Atlanta, Georgia 30303-8960. (404/562-9031 (phone) or notarianni.michele@epa.gov (e-mail))

SUPPLEMENTARY INFORMATION: This section is organized as follows:

I. What is the background for this action?

II. Who is affected by this action?

III. What is transportation conformity?

IV. What is an MVEB?

V. What is a safety margin?

VI. How does this action change implementation of transportation conformity for the Kentucky portion of the Cincinnati-Hamilton maintenance area?

VII. What is parallel processing?

VIII. Proposed action

IX. Statutory and Executive Order Reviews

I. What Is the Background for This Action?

The Commonwealth of Kentucky submitted a request on February 6, 2003, to revise the MVEBs for the Northern Kentucky maintenance area for the year 2010. The Northern Kentucky area (i.e., Boone, Campbell and Kenton counties), in conjunction with the Cincinnati-Hamilton County area in Ohio, was designated as a nonattainment area for the 1-hour ozone national ambient air quality standard (NAAQS) per the Clean Air Act as amended in 1990. In October 1999, after the area had three consecutive years of “clean” air quality data, the Commonwealth of Kentucky, through the Kentucky Department of Air Quality (KDAQ), submitted a redesignation request and a maintenance plan for the Northern Kentucky area to EPA. On June 19, 2000, EPA redesignated the Northern Kentucky area to attainment for the 1-hour ozone NAAQS and approved the maintenance plan for the Northern Kentucky area (65 FR 37879). This maintenance plan established the MVEBs which are currently being used by the Ohio, Kentucky, Indiana Regional Council of Governments (OKI) to demonstrate transportation conformity. OKI is the metropolitan planning organization (MPO) for the Cincinnati-Hamilton County area, including the three counties identified in this action as the Northern Kentucky area.

II. Who Is Affected by This Action?

Primarily, the transportation sector represented by OKI will benefit from this revision. Through the Interagency Consultation Group, which includes the Kentucky transportation and air quality partners, OKI identified a need for revised MVEBs for the Northern Kentucky area to allow for growth in the transportation sector. KDAQ, a partner of the Interagency Consultation Group, evaluated the potential to revise the MVEBs for the Northern Kentucky area and prepared this SIP revision to accommodate OKI's request.

III. What Is Transportation Conformity?

Transportation conformity means that the level of emissions from the transportation sector (i.e., cars, trucks and buses) must be consistent with the requirements in the SIP to attain and maintain the NAAQS. The Clean Air Act, in section 176(c), requires conformity of transportation plans, programs and projects to a SIP's purpose of attaining and maintaining the NAAQS. On November 24, 1993, EPA published a final rule establishing criteria and procedures for determining if transportation plans, programs and projects funded or approved under Title 23 U.S.C. or the Federal Transit Act conform to the SIP.

The transportation conformity rules require an ozone maintenance area to compare the actual projected emissions from cars, trucks and buses on the highway network, to the MVEB established by the maintenance plan. The Northern Kentucky area has an approved maintenance plan. EPA's approval of the maintenance plan on June 19, 2000, established the MVEBs for transportation conformity purposes.

IV. What Is an MVEB?

An MVEB is the projected level of controlled emissions from the transportation sector (mobile sources) that is estimated in the SIP. The SIP controls emissions through regulations, for example, on fuels and exhaust levels for cars. The MVEB concept is further explained in the preamble to the November 24, 1993, transportation conformity rule (58 FR 62188). The preamble also describes how to establish the MVEB in the SIP and revise the MVEB. The transportation conformity rule allows the MVEB to be changed as long as the total level of emissions from all sources remains below the attainment level of emissions.

V. What Is a Safety Margin?

A “safety margin” is the difference between the attainment level of emissions (from all sources) and the projected level of emissions (from all sources) in the maintenance plan. The attainment level of emissions is the level of emissions during one of the years in which the area met the NAAQS. For example, the Northern Kentucky area attained the 1-hour ozone NAAQS during the 1996-1998 time period. Kentucky uses 1996 as the attainment level of emissions for the area. The emissions from point, area and mobile sources in 1996 equaled 39.71 tons per day (tpd) of VOC for the Northern Kentucky area. KDAQ projected emissions out to the year 2010 and projected a total of 32.55 tpd of VOC. The safety margin for VOCs is calculated to be the difference between these amounts or, in this case, 7.16 tpd of VOC for 2010. By this same method, 4.78 tpd (i.e., 66.55 tpd less 61.77 tpd) is the safety margin for NOX for 2010.

The emissions are projected to maintain the area's air quality consistent with the NAAQS. The safety margin credit can be allocated to the transportation sector. The total emission level must stay below the attainment level to be acceptable. The safety margin is the extra emissions that can be allocated as long as the total attainment level of emissions is maintained.

VI. How Does This Action Change Implementation of Transportation Conformity for the Kentucky Portion of the Cincinnati-Hamilton Maintenance Area?

In today's action, EPA is proposing to approve a revision to the 2010 MVEBs for the Northern Kentucky maintenance area. The revised MVEBs are 17.13 tpd for NOX and 7.33 tpd for VOC, and include an allocation of 2.0 tpd and 1.5 tpd from the available safety margin for NOX and VOC, respectively, for the Northern Kentucky maintenance area. The MVEB is being changed from 15.13 tpd for NOX and 5.83 tpd for VOC. Additionally, this action proposes to approve the establishment of subarea MVEBs for the Northern Kentucky maintenance area. Presently, OKI demonstrates conformity for the Kentucky and Ohio portions of the Cincinnati-Hamilton maintenance area together, although Ohio and Kentucky have separate MVEBs for their areas in the individual SIPs. OKI is the MPO for both areas so it was convenient to demonstrate conformity for both areas together. However, because of a recent mismatch for the budget years for the Ohio and Kentucky portions of this maintenance area, it will be more convenient for the MPO to demonstrate conformity for each area separately. The subarea budget for the Northern Kentucky area is identical to the MVEBs identified above for the Northern Kentucky area. This action merely provides formal recognition that the MPO will demonstrate conformity for the Ohio and Kentucky portions of the Cincinnati-Hamilton County maintenance area separately. The establishment of subarea MVEBs for this area will minimize the administrative burden for the MPO to demonstrate conformity for the Northern Kentucky maintenance area. Without the subarea MVEBs, the MPO would have to analyze an extra year for each conformity analysis because of a current mismatch for the budget years for the Ohio and Kentucky portions of this maintenance area.

VII. What Is Parallel Processing?

Kentucky has requested that EPA parallel process this proposed SIP revision. Under this procedure, the Regional Office works closely with the Commonwealth of Kentucky while the Commonwealth is developing new or revised regulations. The state submits a copy of the proposed regulation or other revisions to EPA before conducting its public hearing. EPA reviews this proposed state action, and prepares a notice of proposed rulemaking. EPA's notice of proposed rulemaking is published in the Federal Register during the same time frame that the Commonwealth is holding its public hearing. The Commonwealth and EPA then provide for concurrent public comment periods on both the state action and the Federal action. After the Commonwealth submits the formal SIP revision request (including a response to all public comments raised during the state's public participation process, and the approved, amended Maintenance Plan for Northern Kentucky), EPA will prepare a final rulemaking notice. If the Commonwealth's formal SIP submittal contains changes which occur after EPA's notice of proposed rulemaking, such changes must be described in EPA's final rulemaking action. If the Commonwealth's changes are significant, then EPA must decide whether it is appropriate to re-propose the state's action.

VIII. Proposed Action

EPA is proposing to approve the Commonwealth's SIP revision because it meets all of the requirements of section 110 of the Clean Air Act.

Additionally, this SIP revision request meets the applicable requirements of the Transportation Conformity Rule. The Commonwealth has identified a VOC and NOX safety margin for 2010, and has chosen to allocate a portion of this safety margin to the MVEBs. The 1.5 tpd for VOC and the 2.0 tpd for NOX allocated to mobile sources still allow sufficient growth margin for stationary sources and maintain the total emissions for the area at the attainment year inventory level as required by the transportation conformity regulations. EPA is soliciting public comments on the issues discussed in this document.

IX. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Intergovernmental relations, Nitrogen dioxide, Ozone, Volatile organic compounds.

Authority: 42 U.S.C. 7401 et seq.

Dated: March 10, 2003.
A. Stanley Meiburg,
Acting Regional Administrator, Region 4.

[FR Doc. 03-6584 Filed 3-18-03; 8:45 am]

BILLING CODE 6560-50-P